DEPARTMENT OF COMMERCE

International Trade Administration

[A-428-801]

Antifriction Bearings (Other Than Tapered Roller Bearings) and Parts Thereof from Germany; Amended Final Results of Antidumping Duty Administrative Review

AGENCY: Import Administration, International Trade Administration, United States Department of Commerce.

ACTION: Notice of amended final results of administrative review

SUMMARY: On July 12, 2001, the Department of Commerce published the final results of administrative reviews of the antidumping duty orders on antifriction bearings (other than tapered roller bearings) and parts thereof from France, Germany, Italy, Japan, Sweden, and the United Kingdom. Based on our analysis of a comment received, we are amending the final results of reviews of the antidumping duty order covering cylindrical roller bearings from Germany with respect to merchandise produced by INA Wälzlager Schaeffler oHG.

EFFECTIVE DATE: September 6, 2001.

FOR FURTHER INFORMATION CONTACT: Hermes Pinilla or Richard Rimlinger, AD/CVD Enforcement, Group I, Import Administration, International Trade Administration, U.S. Department of Commerce, 14th Street and Constitution Avenue, N.W., Washington, D.C. 20230; telephone (202) 482-3477 or (202) 482-4477, respectively.

SUPPLEMENTARY INFORMATION:

Applicable Statute

Unless otherwise indicated, all citations to the Tariff Act of 1930, as amended (the Act), are references to the provisions in effect as of January 1, 1995. In addition, unless otherwise indicated, all citations to the Department of Commerce's (the Department's) regulations are to 19 CFR part 351 (2000).

Background

On July 12, 2001, the Department published the final results of administrative reviews of the antidumping duty orders on antifriction bearings (other than tapered roller bearings) and parts thereof (AFBs) from France, Germany, Italy, Japan, Sweden, and the United Kingdom (66 FR 36551). We invited interested parties to comment on our final results. Based on a timely comment we received from a respondent, INA Wälzlager Schaeffler oHG (INA), we are now amending the final results of review with respect to the order covering cylindrical roller bearings (CRBs) from Germany. The period of review (POR) for this order is May 1, 1999, through December 31, 1999.

On July 11, 2001, we received a letter from INA stating that it had reviewed the Department's disclosure materials and found a ministerial error. Specifically, INA alleged that the Department in its final results inadvertently used the wrong variable in its computer program to identify whether INA's home-market customers are affiliated or unaffiliated. We reviewed INA's allegation and agree with INA; therefore, we are amending the final results of review for CRBs from Germany. For more information, see analysis memorandum from analyst to file dated August 9, 2001.

Amendment to Final Results

We are now amending the final results of administrative review of the antidumping duty order on CRBs from Germany for the period of review May 1, 1999, through December 31, 1999. As a result of this change, the weighted-average margin for INA changed from 2.96 percent to 2.82 percent. Accordingly, the Department will determine and the Customs Service will assess appropriate antidumping duties on entries of the subject merchandise exported by INA covered by this administrative review.

We are issuing and publishing this determination in accordance with section 751(a) of the Act.

Dated: August 10, 2001.
Faryar Shirzad,
Assistant Secretary for Import Administration.

[FR Doc. 01-22416 Filed 9-5-01; 8:45 am]

BILLING CODE 3510-DS-P